FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 010714-048.

Agreement Name: Trans-Atlantic American Flag Liner Operators.

Parties: American President Lines, LLC; American Roll-On Roll-Off Carrier, LLC; and Hapag-Lloyd USA, LLC.

Filing Party: Eric Jeffrey; Nixon Peabody.

Synopsis: The amendment deletes Maersk Line A/S as a party to the Agreement and updates the corporate name of APL.

Proposed Effective Date: 5/29/2019.

Location: https://www2.fmc.gov/FMC.Agreements.Web/Public/AgreementHistory/1132.

Agreement No.: 008493-032.

Agreement Name: Trans-Pacific American Flag Berth Operators Agreement.

Parties: American President Lines, LLC and Matson Navigation Company, Inc.

Filing Party: Eric Jeffrey; Nixon Peabody.

Synopsis: The amendment deletes Maersk Line A/S as a party to the Agreement and updates the corporate name of APL.

Proposed Effective Date: 5/29/2019.

Location: https://www2.fmc.gov/FMC.Agreements.Web/Public/AgreementHistory/80.

Agreement No.: 201249-001.

Agreement Name: Port of Los Angeles Data Delivery Agreement.

Parties: APM Terminals Pacific Ltd.; Fenix Marine Services, Ltd.; Everport Terminal Services, Ltd.; Trapac LLC; West Basin Container Terminal LLC; Yusen Terminals LLC; and Port of Los Angeles.

Filing Party: Jeff Vogel; Cozen O'Connor.

Synopsis: The amendment extends the Agreement through June 10, 2020, with an option to extend for an additional year with written notification to the FMC. The amendment also increases the total amount paid under the agreement based on the extension, and updates the names and/or addresses of some of the parties. The parties request expedited review.

Proposed Effective Date: 7/14/2019.

Location: https://www2.fmc.gov/FMC.Agreements.Web/Public/AgreementHistory/10158.

Dated: May 31, 2019.
Rachel Dickon,
Secretary.

[FR Doc. 2019-11722 Filed 6-4-19; 8:45 am]

BILLING CODE 6731-AA-P